ENVIRONMENTAL PROTECTION AGENCY

[EPA-HQ-OPPT-2016-0675; FRL-9960-84]

TSCA Reporting and Recordkeeping Requirements; Standards for Small Manufacturers and Processors; Reopening of Comment Period

AGENCY: Environmental Protection Agency (EPA).

ACTION: Notice; reopening of comment period.

SUMMARY: On December 15, 2016, EPA issued a notice in the Federal Register requesting public comment on whether revision to the current size standards for small manufacturers and processors, which are used in connection with reporting regulations under the Toxic Substances Control Act (TSCA) section 8(a), is warranted. This document reopens the comment period for 15 days. The comment period is being reopened in order to allow the public to consider feedback received by EPA from the Small Business Administration (SBA) as a result of a consultation request on EPA's preliminary determination on whether revision to these standards is warranted.

DATES: Comments, identified by docket identification (ID) number EPA-HQ-OPPT-2016-0675, must be received on or before May 24, 2017.

ADDRESSES: Follow the detailed instructions provided under ADDRESSES in the Federal Register document of December 15, 2016 (81 FR 90840) (FRL-9956-03).

FOR FURTHER INFORMATION CONTACT: For technical information contact: Lynne Blake-Hedges, Chemistry, Economics, and Sustainable Strategies Division (7406M), Office of Pollution Prevention and Toxics, Environmental Protection Agency, 1200 Pennsylvania Ave. NW., Washington, DC 20460-0001; telephone number: (202) 564-8807; email address: blake-hedges.lynne@epa.gov.

For general information contact: The TSCA-Hotline, ABVI-Goodwill, 422 South Clinton Ave., Rochester, NY 14620; telephone number: (202) 554-1404; email address: TSCA-Hotline@epa.gov.

SUPPLEMENTARY INFORMATION: This document reopens the public comment period established in the Federal Register document of December 15, 2016. In that document, EPA requested comment on its preliminary determination on whether a revision of the standards for determining the manufacturers and processors which qualify as small manufacturers and processors for purposes of TSCA sections 8(a)(1) and 8(a)(3) was warranted. On December 7, 2016, EPA also submitted a consultation request to the SBA on the adequacy of the current standards and requested a response within 15 business days of receipt (Ref. 1). EPA had intended to add SBA's response to the docket to give the public an opportunity to review the response to inform their comments on EPA's preliminary determination. EPA received feedback on the consultation request on behalf of the SBA Administrator on April 5, 2017 (Ref. 2), concluding the consultation with SBA. Consistent with section 8(a)(3)(C), EPA is providing public notice and an opportunity for comment on its preliminary determination after consultation with the Administrator of SBA.

EPA is hereby reopening the comment period for 15 days to May 24, 2017.

To submit comments, or access the docket, please follow the detailed instructions provided under ADDRESSES in the Federal Register document of December 15, 2016 (81 FR 90840) (FRL-9956-03). If you have questions, consult the technical person listed under FOR FURTHER INFORMATION CONTACT.

References

The following is a listing of the documents that are specifically referenced in this document. The docket includes these documents and other information considered by EPA, including documents that are referenced within the documents that are included in the docket, even if the referenced document is not physically located in the docket. For assistance in locating these other documents, please consult the technical person listed under FOR FURTHER INFORMATION CONTACT.

1. Jones, Jim. Letter to Maria Contreras-Sweet. “Consultation under Section 8(a)(3)(C) the Toxic Substances Control Act”. December 2016.

2. Linda McMahon. Response to Consultation Request under Section 8(a)(3)(C) the Toxic Substances Control Act. April 2017.

Authority: 15 U.S.C. 2607(a)(3)(C).

Dated: April 21, 2017.
Wendy Cleland-Hamnett,
Acting Assistant Administrator, Office of Chemical Safety and Pollution Prevention.

[FR Doc. 2017-09380 Filed 5-8-17; 8:45 am]

BILLING CODE 6560-50-P